DEPARTMENT OF THE INTERIOR

Bureau of Land Management

[ES-960-1910-BJ-4041] ES-51490, Group 104, Arkansas

Notice of Filing of Plat of Survey; Arkansas

The dependent resurvey of a portion of the subdivisional lines, and the survey of the subdivision of certain sections, Township 16 North, Range 17 West, Fifth Principal Meridian, Arkansas, will be officially filed in Eastern States, Springfield, Virginia at 7:30 a.m., on May 23, 2002.

The survey was made at the request of the National Park Service.

All inquiries or protests concerning the technical aspects of the survey must be sent to the Chief Cadastral Surveyor, Eastern States, Bureau of Land Management, 7450 Boston Boulevard, Springfield, Virginia 22153, prior to 7:30 a.m., May 23, 2002.

Copies of the plat will be made available upon request and prepayment of the appropriate fee.

Dated: March 19, 2002.
Stephen D. Douglas,
Chief Cadastral Surveyor.

[FR Doc. 02-8892 Filed 4-11-02; 8:45 am]

BILLING CODE 4310-GJ-P